DEPARTMENT OF COMMERCE

International Trade Administration

[C-570-039]

Amorphous Silica Fabric From the People's Republic of China: Correction to the Opportunity To Request Administrative Review Notice

AGENCY: Enforcement and Compliance, International Trade Administration, Department of Commerce.

FOR FURTHER INFORMATION CONTACT: Brenda E. Waters, AD/CVD Operations, Customs Liaison Unit, Enforcement and Compliance, International Trade Administration, U.S. Department of Commerce, 1401 Constitution Avenue NW, Washington, DC 20230; telephone: (202) 482-4735.

SUPPLEMENTARY INFORMATION:

Background

On March 5, 2018, Commerce published its opportunity to request an administrative review of antidumping and countervailing duty orders and incorrectly listed the case number for the countervailing duty order on Amorphous Silica Fabric from the People's Republic of China.¹ The correct case number for the countervailing duty order on Amorphous Silica Fabric from The People's Republic of China is C-570-039. This notice serves as a correction notice.

¹ See Antidumping or Countervailing Duty Order, Finding, or Suspended Investigation; Opportunity to Request Administrative Review, 83 FR 9284 (March 5, 2018).

Dated: March 23, 2018.
James Maeder,
Associate Deputy Assistant Secretary for Antidumping and Countervailing Duty Operations performing the duties of Deputy Assistant Secretary for Antidumping and Countervailing Duty Operations.

[FR Doc. 2018-06344 Filed 3-28-18; 8:45 am]

BILLING CODE 3510-DS-P